DEPARTMENT OF HEALTH AND HUMAN SERVICES

National Institutes of Health

Clinical Center; Notice of Closed Meeting

Pursuant to section 10(d) of the Federal Advisory Committee Act, as amended (5 U.S.C. App.), notice is hereby given of a meeting of the Board of Scientific Counselors of the NIH Clinical Center.

The meeting will be closed to the public as indicated below in accordance with the provisions set forth in section 552b(c)(6), Title 5 U.S.C., as amended for the review, discussion, and evaluation of individual intramural programs and projects conducted by the CLINICAL CENTER, including consideration of personnel qualifications and performance, and the competence of individual investigators, the disclosure of which would constitute a clearly unwarranted invasion of personal privacy.

Name of Committee: Board of Scientific Counselors of the NIH Clinical Center.

Date: January 23-24, 2017.

Time: January 23, 2017, 8:00 a.m. to 12:15 p.m.

Agenda: To review and evaluate the Department of Transfusion Medicine.

Place: National Institutes of Health, Building 10, Rm: 10-42551, 10 Center Drive, Bethesda, MD 20892.

Time: January 23, 2017, 1:00 p.m. to 4:45 p.m.

Agenda: To review and evaluate the Department of Transfusion Medicine.

Place: National Institutes of Health, Building 10, Rm: 10-42551, 10 Center Drive, Bethesda, MD 20892.

Time: January 24, 2017, 8:00 a.m. to 12:00 p.m.

Agenda: To review and evaluate the Department of Transfusion Medicine.

Place: National Institutes of Health, Building 10, Rm: 10-42551, 10 Center Drive, Bethesda, MD 20892.

Contact Person: David K. Henderson, MD, Deputy Director for Clinical Care, Office of the Director, Clinical Center, National Institutes of Health, Building 10, Room 6-1480, Bethesda, MD 20892, (301) 496-3515.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Dated: December 20, 2016.
Michelle Trout,
Program Analyst, Office of Federal Advisory Committee Policy.

[FR Doc. 2016-31171 Filed 12-23-16; 8:45 am]

BILLING CODE 4140-01-P